FEDERAL COMMUNICATIONS COMMISSION

[OMB 3060-0775]

Information Collection Being Reviewed by the Federal Communications Commission

AGENCY: Federal Communications Commission.

ACTION: Notice and request for comments.

SUMMARY: As part of its continuing effort to reduce paperwork burdens, and as required by the Paperwork Reduction Act (PRA) of 1995 (44 U.S.C. 3501-3520), the Federal Communications Commission (FCC or the Commission) invites the general public and other Federal agencies to take this opportunity to comment on the following information collection. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid control number. No person shall be subject to any penalty for failing to comply with a collection of information subject to the PRA that does not display a valid Office of Management and Budget (OMB) control number.

DATES: Written PRA comments should be submitted on or before May 3, 2016. If you anticipate that you will be submitting comments, but find it difficult to do so within the period of time allowed by this notice, you should advise the contact listed below as soon as possible.

ADDRESSES: Direct all PRA comments to Nicole Ongele, FCC, via email PRA@fcc.gov and to Nicole.Ongele@fcc.gov.

FOR FURTHER INFORMATION CONTACT: For additional information about the information collection, contact Nicole Ongele at (202) 418-2991.

SUPPLEMENTARY INFORMATION:

OMB Control Number: 3060-0775.

Title: Section 64.1903, Obligations of Independent Incumbent Local Exchange Carriers (LECs) Subject to Rate of Return Regulation.

Form Number: N/A.

Type of Review: Extension of a currently approved collection.

Respondents: Business or other for-profit.

Number of Respondents and Responses: 255 respondents; 255 responses.

Estimated Time per Response: 500 hours-6,056 hours.

Frequency of Response: Recordkeeping requirements.

Obligation to Respond: Mandatory. Statutory authority for this information collection is contained in 47 U.S.C. 151, 152, 154, 201, 202, 251, 271, 272, and 303(r) of the Communications Act of 1934, as amended.

Total Annual Burden: 155,280 hours.

Total Annual Cost: No cost.

Privacy Impact Assessment: No impact(s).

Nature and Extent of Confidentiality: There is no need for confidentiality.

Needs and Uses: The Commission will submit this collection to the Office of Management and Budget (OMB) for approval of an extension of an existing collection in order to obtain the three year clearance from them.

The Commission imposed recordkeeping requirements on independent local exchange carriers (LECs). Independent incumbent LECs wishing to offer international, interexchange services must comply with the requirements of the Competitive Carrier Fifth Report and Order, CC Docket Nos. 96-149, 96-61 and 00-175. One of the requirements is that the independent incumbent LEC's international, interexchange affiliate (for facilities-based providers of international, interexchange services) must maintain books of account separate from such LEC's local exchange and other activities. See 47 CFR 64.1903 for the specific recordkeeping requirements. In May of 2013, the Commission granted, in part, a petition for forbearance from the separate affiliate requirement, 47 CFR 64.1903, for independent incumbent local exchange carriers (LECs) that are subject to price cap regulation and adopted a Second Further Notice of Proposed Rulemaking to consider modifying or eliminating the separate affiliate requirement for independent incumbent LECs that are subject to rate-of-return regulation, see Petition of USTelecom for Forbearance Under 47 U.S.C. 160(C) From Enforcement of Certain Legacy Telecommunications Regulations, 28 FCC Rcd. 7627 (2013). Accordingly, there has been a change to recordkeeping requirement and the Commission's previous burden estimates.

This recordkeeping requirement is used by the Commission to ensure that independent incumbent LECs that provide international, interexchange services do so in compliance with the Communications Act, as amended, and with Commission policies and regulations.

Federal Communications Commission.
Gloria J. Miles,
Federal Register Liaison Officer, Office of the Secretary.

[FR Doc. 2016-04840 Filed 3-3-16; 8:45 am]

BILLING CODE 6712-01-P